DEPARTMENT OF COMMERCE

National Oceanic and Atmospheric Administration

[I.D. 020105A]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene a public meeting of the Socioeconomic Panel (SEP).

DATES: A meeting of the SEP will be held beginning at 9 a.m. on Thursday, February 24, 2005 and will conclude no later than 3 p.m. on Friday, February 25, 2005.

ADDRESSES: The meeting will be held at the Four Points By Sheraton New Orleans Airport, 6401 Veterans Memorial Boulevard, Metairie, LA 70003; 504.885.5700.

FOR FURTHER INFORMATION CONTACT: Mr. Assane Diagne, Economist, Gulf of Mexico Fishery Management Council, 3018 U.S. Highway 301 North, Suite 1000, Tampa, Florida 33619; telephone: 813-228-2815.

SUPPLEMENTARY INFORMATION: The Council will convene its Socioeconomic Panel (SEP) to review “Draft Amendment 13 for Shrimp”, “Draft Amendment 18A for Reef Fish”, and “Draft Amendment 26 for Red Snapper.” The shrimp amendment considers several issues including the establishment of a moratorium on the issuance of commercial shrimp vessel permits and the requirement of separate vessel permits for the royal red shrimp fishery. The reef fish amendment reviews effort capacity control measures, enforcement and monitoring issues in the reef fish fishery. The red snapper amendment considers the establishment of an individual fishing quota (IFQ) for the commercial red snapper fishery. In addition, the SEP will discuss potential grouper trip limits and buyback programs.

A report will be prepared by the SEP containing their conclusions and recommendations. This report will be presented to the Council at its meeting on March 7-10, 2005 in Birmingham, Alabama.

Composing the SEP membership are economists, sociologists, and anthropologists from various universities and state fishery agencies throughout the Gulf. They advise the Council on the social and economic implications of certain fishery management measures.

A copy of the agenda can be obtained by calling 813-228-2815. Although other non-emergency issues not on the agenda may come before the SEP for discussion, in accordance with the Magnuson-Stevens Fishery Conservation and Management Act, those issues may not be the subject of formal action during this meeting. Actions of the SEP will be restricted to those issues specifically identified in the agendas and any issues arising after publication of this notice that require emergency action under Section 305(c) of the Magnuson-Stevens Act, provided the public has been notified of the Council's intent to take action to address the emergency.

Special Accommodations

The meeting is open to the public and is physically accessible to people with disabilities. Requests for sign language interpretation or other auxiliary aids should be directed to the Council office by February 17, 2005.

Dated: February 2, 2005.
Alan D. Risenhoover,
Acting Director, Office of Sustainable Fisheries, National Marine Fisheries Service.

[FR Doc. E5-483 Filed 2-4-05; 8:45 am]

BILLING CODE 3510-22-S